NUCLEAR REGULATORY COMMISSION

10 CFR Part 50

[NRC-2018-0289]

RIN 3150-AK21

American Society of Mechanical Engineers 2021-2022 Code Editions; Correction

AGENCY: Nuclear Regulatory Commission.

ACTION: Final rule; correction.

SUMMARY: The U.S. Nuclear Regulatory Commission (NRC) is correcting a final rule that was published in the Federal Register on August 30, 2024, regarding the amendment of NRC's regulations to incorporate by reference the 2021 Edition of the American Society of Mechanical Engineers Boiler and Pressure Vessel Code and the 2022 Edition of the American Society of Mechanical Engineers Operation and Maintenance of Nuclear Power Plants, Division 1, OM Code: Section IST, for nuclear power plants. This action is necessary to correct inadvertent errors in the final rule. These corrections do not result in any substantive changes to the final rule.

DATES: The correction is effective on September 30, 2024.

ADDRESSES: Please refer to Docket ID NRC-2018-0289 when contacting the NRC about the availability of information for this action. You may obtain publicly available information related to this action by any of the following methods:

• Federal Rulemaking Website: Go to https://www.regulations.gov and search for Docket ID NRC-2018-0289. Address questions about NRC dockets to Helen Chang; telephone: 301-415-3228; email: Helen.Chang@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Tyler Hammock, Office of Nuclear Material Safety and Safeguards, telephone: 301-415-1381, email: Tyler.Hammock@nrc.gov; or Michael Benson, Office of Nuclear Reactor Regulation, telephone: 301-415-2425, email: Michael.Benson@nrc.gov. Both are staff of the U.S. Nuclear Regulatory Commission, Washington, DC 20555-0001.

SUPPLEMENTARY INFORMATION:

Need for Correction

The final rule published on August 30, 2024, in the Federal Register at 89 FR 70449, inadvertently contained some minor technical errors in the regulatory instructions and text that this document corrects. This document corrects errors in amendatory instruction i for § 50.55a. The instructions should have revised the introductory text for paragraphs (b)(2)(viii) and (ix) and retained all paragraphs under (b)(2)(viii) and (ix). In FR Doc. 2024-19235 beginning on page 70449 of the Federal Register of Friday, August 30, 2024, the NRC makes the following corrections:

§ 50.55a [Corrected]

1. On page 70467, in the first column, amendatory instruction 2.i for § 50.55a is corrected to read “i. Revise paragraphs (b)(2) introductory text, (b)(2)(viii) introductory text, and (b)(2)(ix) introductory text;”.

2. On page 70468, in the second column, in the amendment text for 10 CFR 50.55a. add five asterisks between paragraphs (b)(2)(viii) and (ix).

For the Nuclear Regulatory Commission.
Dated: September 19, 2024.
Cindy Bladey,
Chief Regulatory Analysis and Rulemaking Support Branch, Division of Rulemaking, Environmental, and Financial Support, Office of Nuclear Material Safety and Safeguards.

[FR Doc. 2024-21779 Filed 9-23-24; 8:45 am]

BILLING CODE 7590-01-P